DEPARTMENT OF STATE

Office of Visa Services

[Public Notice 4506]

Notice of Information Collection Under Emergency Review: Form DS-5501, Electronic Diversity Visa Entry Form; OMB Control Number 1405-xxxx

ACTION: Notice.

SUMMARY: The Department of State has submitted the following information collection request to the Office of Management and Budget (OMB) for review and approval in accordance with the emergency review procedures of the Paperwork Reduction Act of 1995. The following summarizes the information collection proposal to be submitted to OMB:

Type of Request: Emergency Review—New Collection.

Originating Office: Bureau of Consular Affairs, Department of State (CA/VO).

Title of Information Collection: Electronic Diversity Visa Entry Form.

Frequency: Once per respondent.

Form Number: DS-5501.

Respondents: Aliens entering the Diversity Visa Lottery.

Estimated Number of Respondents: 8 million per year.

Average Hours Per Response: .5 hours.

Total Estimated Burden: 4 million hours per year.

The proposed information collection is published to obtain comments from the public and affected agencies. Emergency review and approval of this collection by OMB has been requested by October 23, 2003. If granted, the emergency approval is only valid for 180 days.Comments should be directed to the State Department Desk Officer, Office of Information and Regulatory Affairs, Office of Management and Budget (OMB), Washington, DC 20530, who may be reached at 202-395-3897.

During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed information collection is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Copies of public comments, or requests for additional information regarding the collection listed in this notice should be directed to Brendan Mullarkey of the Office of Visa Services, U.S. Department of State, 2401 E St., NW., RM L-703, Washington, DC 20520, who may be reached at (202) 663-1166.

Dated: September 26, 2003.
Janice L. Jacobs,
Deputy Assistant Secretary of State for Visa Services, Bureau of Consular Affairs, Department of State.

[FR Doc. 03-25170 Filed 10-2-03; 8:45 am]

BILLING CODE 4710-06-P